DEPARTMENT OF THE TREASURY

Alcohol and Tobacco Tax and Trade Bureau

27 CFR Part 4

[TTB T.D.-2; Ref. Notice No. ATF-953]

RIN 1512—AC63

Amelioration of Fruit and Agricultural Wines; Technical Amendments (2001R-197P)

AGENCY: Alcohol and Tobacco Tax and Trade Bureau (TTB), Treasury.

ACTION: Treasury decision, final rule.

SUMMARY: The Treasury Department and its Alcohol and Tobacco Tax and Trade Bureau are correcting an error in the wine labeling regulations regarding the amelioration of fruit (non-grape) and agricultural wines. The Bureau is also making a number of technical corrections to the wine labeling regulations.

EFFECTIVE DATE: Effective September 2, 2003.

FOR FURTHER INFORMATION CONTACT: Jennifer Berry, Alcohol and Tobacco Tax and Trade Bureau, Regulations and Procedures Division, PO Box 18152, Roanoke, Virginia 24014; telephone (540) 344-9333.

SUPPLEMENTARY INFORMATION:

Impact of the Homeland Security Act on Rulemaking

Effective January 24, 2003, the Homeland Security Act of 2002 divided the Bureau of Alcohol, Tobacco and Firearms (ATF) into two new agencies, the Alcohol and Tobacco Tax and Trade Bureau (TTB) in the Department of the Treasury and the Bureau of Alcohol, Tobacco, Firearms and Explosives in the Department of Justice. Regulation of wine labeling is the responsibility of the new TTB. References to ATF in this document relate to events that occurred prior to January 24, 2003, or to functions that the Bureau of Alcohol, Tobacco, Firearms and Explosives continues to perform.

Background

The Alcohol and Tobacco Tax and Trade Bureau administers regulations published in chapter I of title 27 CFR. In a recent review of part 4 of this chapter, Labeling and Advertising of Wine, we noted an error at § 4.22(b)(5) regarding the amelioration of fruit (non-grape) and agricultural wines. We are correcting this error and making several other technical amendments to the wine labeling regulations in part 4.

Amelioration Error

The regulations at § 4.22(b)(5) state that fruit (non-grape) and agricultural wines may be treated with sugar or water in excess of the quantities prescribed for their standards of identity without TTB viewing such treatment as an alteration of class and type, if, among other conditions, “the content of natural acid is not less than 7.5 parts per thousand.” [Italics added.] This limitation of 7.5 parts per thousand is incorrect. Pursuant to 26 U.S.C. 5383 and 5384, the correct minimum acid level should be 7.69 parts per thousand. This level is correctly stated in § 24.178(b)(3) as 7.69 grams per liter. “Grams per liter” is equivalent to “parts per thousand.” In order to make these regulations accurate and consistent, we are amending the minimum acid limitation in § 4.22(b)(5) to 7.69 grams per liter.

Technical Amendments

We have identified a typographical error at § 4.21(h)(2), the standard of identity for imitation and substandard or other than standard wine. The phrase “other than standard wine” has been omitted from this section. The corrected regulation will read as follows:

(2) “Substandard wine” or “other than standard wine” shall bear as a part of its designation the words “substandard” or “other than standard,” * * *. [Addition in italics.]

We have also identified two technical errors at § 4.30(a). Both the first and second sentences of this section use the word “article” to refer to regulatory subparts. “Article” was the term used for subparts when the wine labeling regulations were written in 1935. Later revisions replaced “article” with “subpart,” but these two instances were overlooked. We are correcting this oversight.

We are also removing three obsolete sections from part 4. All three have been replaced with newer sections, and their requirements have been obsolete for years.

• § 4.25, Appellation of origin, obsolete since January 1, 1983, has been replaced with § 4.25a.

• § 4.35, Name and address, obsolete since July 28, 1994, has been replaced with § 4.35a.

• § 4.72, Standards of fill, obsolete since January 1, 1979, has been replaced with § 4.73.

We are assigning the old numbers to the newer sections to improve the organization of part 4. We believe that removing these obsolete sections will make it much easier for readers to find current requirements.

Notice No. 953

ATF published Notice No. 953 on October 3, 2002, proposing to make the corrections and technical amendments described above. No comments were received. Accordingly, we are now finalizing the proposed amendments.

Regulatory Analyses and Notices

Does the Paperwork Reduction Act Apply to This Final Rule?

We propose no requirement to collect information. Therefore, the provisions of the Paperwork Reduction Act of 1995, 44 U.S.C. chapter 35, and its implementing regulations, 5 CFR part 1320, do not apply.

How Does the Regulatory Flexibility Act Apply to This Final Rule?

We certify that this regulation will not have a significant economic impact on a substantial number of small entities. We expect no negative impact on small entities. We are not imposing any new requirements. Accordingly, the Regulatory Flexibility Act does not require a regulatory flexibility analysis.

Is This a Significant Regulatory Action as Defined by Executive Order 12866?

This is not a significant regulatory action as defined by Executive Order 12866. Therefore, the order does not require a regulatory assessment.

Drafting Information

The principal author of this document is Jennifer Berry, Regulations and Procedures Division, Alcohol and Tobacco Tax and Trade Bureau.

List of Subjects in 27 CFR Part 4

Advertising, Customs duties and inspection, Imports, Labeling, Packaging and containers, Reporting and recordkeeping requirements, Trade practices, Wine.

Authority and Issuance

For the reasons discussed in the preamble, we are amending 27 CFR part 4 as follows:

PART 4—LABELING AND ADVERTISING OF WINE

1. The authority citation for 27 CFR part 4 continues to read as follows:

Authority: 27 U.S.C. 205, unless otherwise noted.

2. Amend § 4.21 by revising paragraph (h)(2) introductory text to read as follows:

§ 4.21 The standards of identity.

* * * * *

(h) * * *

(2) “Substandard wine” or “other than standard wine” shall bear as a part of its designation the words “substandard” or “other than standard,” and shall include:

* * * * *

3. Revise § 4.22(b)(5) to read as follows:

§ 4.22 Blends, cellar treatment, alteration of class or type.

* * * * *

(b) * * *

(5) Treatment of any class or type of wine for which a standard of identity is prescribed in this subpart with sugar or water in excess of the quantities specifically authorized by such standards:

Provided, That the class or type thereof shall not be deemed to be altered:

(i) Where such wine (other than grape wine) is derived from fruit or other agricultural products having a high normal acidity, if the total solids content is not more than 22 grams per 100 cubic centimeters and the content of natural acid is not less than 7.69 grams per liter, and

(ii) Where such wine is derived exclusively from fruit or other agricultural products the normal acidity of which is 20 parts or more per thousand, if the volume of the resulting product has been increased not more than 60 percent by the addition of sugar and water solution for the sole purpose of correcting natural deficiencies due to such acidity and (except in the case of such wine when produced from fruit or berries other than grapes) there is stated as part of the class and type designation the phrase “Made with over 35 percent sugar solution.”

* * * * *

4. Remove § 4.25.

5. Redesignate § 4.25a as § 4.25.

6. Amend § 4.30(a) by removing the word “article” where it appears and replacing it with the word “subpart”.

7. Remove § 4.35.

8. Redesignate § 4.35a as § 4.35.

9. Remove § 4.72.

10. Redesignate § 4.73 as § 4.72.

Signed: March 26, 2003.
John J. Manfreda,
Acting Administrator.
Approved: June 4, 2003.
Timothy E. Skud,
Deputy Assistant Secretary (Tax, Trade, and Tariff Policy).

[FR Doc. 03-16563 Filed 7-1-03; 8:45 am]

BILLING CODE 4810-31-P